DEPARTMENT OF LABOR

Mine Safety and Health Administration

Petition for Modification of Application of Existing Mandatory Safety Standards

AGENCY: Mine Safety and Health Administration, Labor.

ACTION: Notice.

SUMMARY: This notice is a summary of a petition for modification submitted to the Mine Safety and Health Administration (MSHA) by the party listed below.

DATES: All comments on the petition must be received by MSHA's Office of Standards, Regulations, and Variances on or before September 3, 2024.

ADDRESSES: You may submit comments identified by Docket No. MSHA-2024-0014 by any of the following methods:

1. Federal eRulemaking Portal: https://www.regulations.gov. Follow the instructions for submitting comments for MSHA-2024-0014.

2. Fax: 202-693-9441.

3. Email: petitioncomments@dol.gov.

4. Regular Mail or Hand Delivery: MSHA, Office of Standards, Regulations, and Variances, 201 12th Street South, 4th Floor West, Arlington, Virginia 22202-5452.

Attention: S. Aromie Noe, Director, Office of Standards, Regulations, and Variances. Persons delivering documents are required to check in at 4th Floor West. Individuals may inspect copies of the petition and comments during normal business hours at the address listed above. Before visiting MSHA in person, call 202-693-9455 to make an appointment, in keeping with the Department of Labor's COVID-19 policy. Special health precautions may be required.

FOR FURTHER INFORMATION CONTACT: S. Aromie Noe, Director, Office of Standards, Regulations, and Variances at 202-693-9440 (voice), Petitionsformodification@dol.gov (email), or 202-693-9441 (fax). [These are not toll-free numbers.]

SUPPLEMENTARY INFORMATION: Section 101(c) of the Federal Mine Safety and Health Act of 1977 (Mine Act) and Title 30 of the Code of Federal Regulations (CFR) part 44 govern the application, processing, and disposition of petitions for modification.

I. Background

Section 101(c) of the Mine Act allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, sections 44.10 and 44.11 of 30 CFR establish the requirements for filing petitions for modification.

II. Petition for Modification

Petition Docket Number: M-2024-006-C.

Petitioner: Canyon Fuel Company, LLC, HC 35, Box 380, Helper, UT 84526.

Mine: Skyline Mine #3, MSHA ID No. 42-01566, located in Carbon County, Utah.

Regulation Affected: 30 CFR 75.350, Belt air course ventilation.

Modification Request: The petitioner requests a modification of the existing standard, 30 CFR 75.350(a), to utilize a portion of the conveyor entry for a return air course to allow for sealing of a worked-out area. In support of the petition for modification, the petitioner submitted a mine map of the affected area along with a diagram of the affected portion of the belt line.

The petitioner states that:

(a) It is prudent mining practice to promptly seal worked-out areas. The petitioner must utilize a portion of the conveyor entry for a return air course to allow for sealing of a worked-out area.

(b) Utilizing a portion of the 12 Tailgate beltline (i.e., the 12 Right Tailgate) as a return air course will allow the operator to proceed with a plan to seal District 1 of the mine.

(c) The mine currently operates under Petition M-2000-040-C and the operator intends to use similar methods.

(d) This petition is needed until the 1 Left Longwall mining is projected to conclude in the 4th quarter of 2024, after which the petition will no longer be required.

The petitioner proposes the following alternative method:

(a) An atmospheric monitoring system (AMS) shall be installed in the primary escapeway entry and belt. The portion of the belt line to be utilized for return does not contain belt drives or take-up components. No non-permissible belt equipment shall be operated in the portion of the belt entry that will be used for a return. The AMS system shall be as follows:

(1) Sensors shall be installed at the mouth of the section in the intake escapeway entry, at the beginning of the working section, and at intervals not to exceed 1,000 feet along the intake escapeway entry between such locations.

(2) Sensors shall be installed at the mouth of the section in the belt entry, at a location between 50 feet and 100 feet inby the section belt drive if the air is traveling to the face, or outby if the air is traveling away from the face in the belt entry and at intervals not to exceed 1,000 feet along the belt conveyor entry. A monitoring device shall be located between 25 feet and 50 feet inby the tailpiece if the air is traveling to the face, or between 50 feet and 100 feet outby the tailpiece if the air is traveling away from the face. The tailpiece and the sensor shall be on the same split of air.

(3) Sensors shall be installed near the center in the upper third of the belt entry in a location that will not expose personnel working on the system to unsafe situations. Sensors installed in the haulage entry shall be located in areas where they are not exposed to damage from mobile equipment. Sensors shall not be located in intersections, abnormally high areas, or other areas where air flow patterns do not permit products of combustion to be carried to the sensors.

(4) Where the return air is directed out of the belt conveyor entry, a sensor shall be installed in the belt entry 25 feet inby that location and a sensor shall be installed between where the return air is directed out of the belt entry and the ventilation box check device is located.

(5) A sensor shall be installed in the mainline conveyor entry between 50 and 100 feet downwind of the location where the 12 Tailgate section belt conveyor discharges onto the mainline belt.

(b) The air velocity requirements in the conveyor entry shall be as follows:

(1) The air in the belt entry shall have a velocity of at least 50 feet per minute and have a perceptible movement in the designated direction.

(2) The velocity measurements shall be taken at locations in the entry that are representative of the cross-sectional areas found throughout the entry and not in areas where the entry is abnormally high or low (e.g. belt drives or under overcasts, respectively).

(c) Carbon monoxide ambient, alert and alarm levels shall be as follows:

(1) The ambient carbon monoxide level shall be 5 parts per million (ppm). The alert and alarm levels for the belt entry and intake entry shall be determined by adding the ambient level to the levels established in Table 1.

(2) The AMS shall also be activated and the alarm shall signal if the total concentration of carbon monoxide measured by any sensor exceeds 50 ppm.

TABLE 1—CO Alert and Alarm Levels
Quantity (cfm): From | Quantity (cfm): To | Concentration setting above ambient (ppm): Alert | Concentration setting above ambient (ppm): Alarm
5,000 | 50,000 | 5 | 10
50,000 | 200,000 | 4 | 8

(d) Audible and visual alarm devices currently installed for compliance with Petition M-2000-040-C shall be utilized. Alarm devices shall give visual and audible signals that can be seen and heard at all times in the working section(s) and at a location on the surface of the mine where a responsible person(s) is on duty at all times when miners are underground. Alert devices shall give visual or audible signals that can be seen or heard at all times at the surface location whenever miners are underground. When audible signals are used for both alert and alarm, the signals shall be distinguishable from each other.

(1) The AMS shall be designed to include a time delay period for carbon monoxide alert and alarm signals not to exceed 60 seconds. When a sensor response remains within the alert or alarm range for more than the predetermined length of time delay, visual and/or audible signals will be given at those levels.

(2) When the AMS gives any visual or audible alert signal, all persons in the same split of air shall immediately be notified and appropriate action shall be taken to determine the cause of the actuation. When the AMS gives any audible alarm signal, all persons in the same split(s) of air shall immediately be withdrawn to a safe location outby the sensor(s) activating the alarm, unless the cause is known not to be a hazard to the miners. When the AMS gives any audible alarm at shift change, no one shall be permitted to enter the mine except qualified persons designated to investigate the source of the alarm. If miners are in route into the mine, they shall be held at, or be withdrawn to, a safe location outby the sensor(s) activating the alarm. When a determination is made as to the source of the alarm, and that the mine is safe to enter, the miners shall be permitted underground.

(3) The mine evacuation plan required by 30 CFR 75.1101-23(a) shall specify the action to be taken to determine the cause of the alert and alarm signals, the location(s) for withdrawal of miners for each alarm signal, the steps to be taken after the cause of an alert signal is determined, and the procedures to be followed if an alarm signal is activated. A record of each alert and alarm signal given and the action taken shall be maintained at the mine for a period of 1 year and made available to all interested persons.

(e) When miners are underground, a responsible person shall be on duty at all times at a surface location at the mine to see the visual alert and hear the audible alarm signals of the AMS when the carbon monoxide reaches the levels established in Table 1. This person shall have two-way communications with all working sections. When the established alarm signal levels are reached, the person shall notify miners who are working inby the affected sensor. The responsible person shall be trained in the operation of the AMS and in the proper procedures to follow in the event of an emergency or malfunction and, in that event, shall take appropriate action immediately.

(f) The AMS shall be examined visually at least once each coal-producing shift and tested for functional operation at intervals not exceeding 7 days to ensure it is functioning properly and that required maintenance is being performed. The AMS shall be calibrated with known concentrations of carbon monoxide and air mixtures at intervals not exceeding 30 calendar days. A record of all weekly inspections, monthly calibrations, and all maintenance shall be maintained on the surface and made available to all interested persons. The inspection record shall show the time and date of each weekly inspection, calibration, and all maintenance performed on the system.

(g) The AMS shall remain operative for the purpose of giving warning of a fire for a minimum of 4 hours after the source of power to the belt is removed except when power is removed during a fan stoppage or when the belt haulageway is examined as provided in 30 CFR 75.1103-4(e)(l) and (e)(2).

(h) The AMS shall be capable of identifying any activated sensor. A map or schematic identifying each belt flight and the details of the monitoring system shall be posted at the mine.

(i) If at any time the AMS has been deenergized for reasons such as routine maintenance or failure of a sensor unit, the belt conveyor may continue to operate provided the miners in the working section affected are notified of the situation and the affected portion of the belt or intake entry is continuously patrolled and monitored for carbon monoxide and methane in the following manner until the affected AMS is returned to normal operation.

(1) The patrolling and monitoring shall be conducted by a qualified person or persons.

(2) The qualified person(s) performing atmospheric monitoring for carbon monoxide and methane or both shall at all times be equipped with a two-way communication device enabling the person(s) performing the monitoring to communicate with the surface. Mine phones spaced a maximum of 1,000 feet may be used for the communication device. When used for this purpose, the mine phone location shall be conspicuously identified.

(3) If one sensor becomes inoperative, a qualified person shall monitor at the location.

(4) If two or more adjacent sensors become inoperative, a qualified person or persons shall patrol and monitor the area affected at least once each hour.

(5) If the complete system becomes inoperative, a sufficient number of qualified persons shall patrol and monitor the affected entries of the mine so that the affected entries will be traveled once each hour in their entirety.

(6) Each of these qualified persons shall be provided with a hand-held carbon monoxide detector and a hand-held methane detector. A carbon monoxide detector and a methane detector shall also be available for use on each working section in the event the AMS is deenergized or fails.

(7) These procedures are applicable only for a short period of time and are to be determined by the reasonable amount of time required to repair or replace the equipment causing the malfunction. The mine operator shall begin corrective action immediately and continue until the defective equipment causing the malfunction is replaced or repaired. The responsible person on the surface shall immediately establish two-way communications with the working section(s) and notify them of the particular malfunction(s) or problem(s).

(8) Monitoring with hand-held detectors shall not be used in lieu of installation and use of the fire detection and methane monitoring systems.

(9) Time delays shall not be applied to measurements made with handheld detectors. Since hand-held detector measurements will include carbon monoxide from diesel-powered equipment, the alert and alarm levels for carbon monoxide when qualified persons are patrolling or monitoring with hand-held detectors shall be 15 ppm and 20 ppm, respectively. These levels shall be incorporated and included as a part of the mine ventilation plan required by 30 CFR 75.370.

(j) The details of the fire detection system and the methane monitoring system, including the type of monitor and specific sensor location on the mine map, shall be included as a part of the mine ventilation plan as required by 30 CFR 75.370.

(k) The concentration of respirable dust in the intake air coursed through a belt conveyor haulageway shall not exceed 1.0 mg/m³. Compliance with this requirement shall be determined by establishing a designated area (DA) sampling location within 15 feet outby the working section belt tailpiece or just outby any air split point introduced into the belt entry and by sampling in accordance with 30 CFR 70.208.

(l) Mantrip cars or personnel carriers or other transportation equipment shall be maintained on or near the working section and be of sufficient capacity to transport all persons who may be in the area and shall be located within 300 feet of the section loading point.

(m) Fire doors designed to quickly isolate the working section shall be constructed in the 12 Right Tailgate near the head of the section for potential use in emergency situations. The fire doors will remain operable while mining inby the 1 Left Tailgate Section. A plan for the emergency closing of these firedoors, notification of personnel, and de-energization of electric power inby the doors shall be included in the approved mine ventilation plan.

(n) Two separate lines or systems for voice communication shall be maintained in the 1 Left Tailgate mining section. Phones shall be installed every 1,000 feet within one crosscut of the location of the diesel discriminating sensor in the belt and intake entries. The two systems shall not be routed through the same entry.

(o) At least one self-contained self-rescuer shall be available for each person in the 1 Left Tailgate section at all times and shall be carried into the section and carried on the section, or stored on the section, while advancing development.

(p) In addition to the requirements of 30 CFR 75.1100-2 (b), firehose outlets with valves every 300 feet shall be installed along the intake entry. At least 500 feet of firehose with fittings and nozzles suitable for connection with the outlets shall be stored at each strategic location along the intake entry. The locations shall be specified in the firefighting and evacuation plan.

(q) Compressor stations and unattended portable compressors shall not be located in the 1 Left Tailgate section.

(r) A methane monitoring system utilizing methane sensors shall be incorporated into the AMS and be installed to monitor the air in the 12 Right Tailgate Belt Entry.

(1) The sensors shall be located so that the belt air is monitored near the mouth of the development, near the tailpiece of the belt conveyor, and at or near any secondary belt drive unit installed in the belt haulage entry.

(2) The methane monitoring system shall be capable of providing both audible and visual signals on both the working section and at a manned location on the surface of the mine where personnel will be on duty at all times when miners are underground in a two-entry section or when a conveyor belt is operating in a two-entry section. A trained person at the surface shall have two-way communication with all working sections. The system shall initiate alarm signals when the methane level is 1.0 volume per centum. The methane monitoring system shall be designed and installed to deenergize the belt conveyor drive units when the methane level is 1.0 volume per centum. Upon notification of the alarm, miners shall deenergize all other equipment located on the section.

(3) The methane monitoring system shall be visually examined at least once every working shift to ensure proper functioning. The system shall be inspected by a person qualified for such work at intervals not exceeding 7 days. The qualified person shall ensure that the devices are operating properly and that the required maintenance, as recommended by the manufacturer, is performed. The monitoring devices shall be calibrated with known quantities of methane-air mixtures at intervals not exceeding 31 calendar days. An inspection record shall be maintained on the surface and made available to all interested persons. The inspection record shall show the date and time of each weekly inspection and calibration of the monitor and all maintenance performed, whether at the time of the weekly inspection or otherwise.

(s) Implementation and training requirements:

(1) Prior to implementing the modification, an inspection shall be conducted by MSHA to ensure that the terms and conditions of this petition have been complied with and that the miners have been trained in proper evacuation procedures, including instructions and drills in evacuation and instructions in precautions to be taken for escape through smoke.

(2) Within 60 days after the Proposed Decision and Order (PDO) is granted by MSHA, the petitioner shall submit proposed revisions for its approved 30 CFR part 48 training plan to the District Manager. These proposed revisions shall specify initial and refresher training regarding the conditions specified by the PDO. This shall include training on the fire suppression systems used on diesel equipment used in the two-entry system. Miners working around the hydraulic pumping station shall be trained in the requirements of the PDO when the hydraulic pumping station for the longwall supports is located in the two-entry system.

(3) The terms and conditions of this petition will not apply during the time period from completion of the development mining of the 1 Left Tailgate and Headgate until the beginning of the longwall equipment set-up activities, provided the conveyor belt in the two-entry panel is not energized. During this time period all other mandatory standards will apply.

(t) Requirements Applicable to Two-Entry Development, Longwall Set-up and Recovery, and Retreat Mining Systems When Diesel-Powered Equipment is Operated on a Two-Entry System.

(1) Administrative controls shall be developed establishing procedures for planning and communication of activities which are known to result in elevated carbon monoxide levels which do not present a hazard to miners working inby. All persons working in the two-entry longwall panel shall be trained as to the requirements of these administrative controls. In the case of diesel equipment operators, the training shall include diesel discriminating sensor locations to minimize false alarms. Diesel equipment operators shall be instructed not to idle machines near sensors. Administrative controls shall be used to minimize the number and type of pieces of diesel equipment in the two-entry system, to notify a responsible person on the working section when any diesel equipment is operating in the two-entry system and when welding operations are performed to avoid false alert and alarm signals. These administrative controls shall be incorporated into the mine ventilation plan.

(2) All light duty and heavy-duty diesel-powered equipment not approved and maintained as permissible under 30 CFR part 36 may operate on any two-entry system, except where permissible equipment is required, as long as the equipment includes:

(i) An automatic and manually activated fire suppression system meeting the requirements of 30 CFR 75.1911. The manual fire suppression system shall be capable of being activated from inside and outside the machine's cab. The manual actuator located outside the cab shall be on the side of the machine opposite the engine. The systems shall be maintained in operating condition.

(ii) An automatic engine shut down/fuel shut off system, maintained in operating condition, which is tied into the activation of the fire suppression system.

(iii) An automatic closing, heat-activated shut off valve, maintained in operating condition, on diesel fuel lines either between the fuel injection pump and fuel tank, if the fuel lines are constructed of steel, or connected as close as practical to the fuel tank using steel fittings if fuel lines are constructed of material other than steel.

(iv) A means, maintained in operating condition, to prevent the spray from ruptured diesel fuel, hydraulic oil, and lubricating oil lines from being ignited by contact with engine exhaust system component surfaces such as shielding, conduit, or non-absorbent insulating materials.

(v) Diesel-powered equipment classified as “heavy-duty” under 30 CFR 75.1908(a), must include a means, maintained in operating condition, to maintain the surface temperature of the exhaust system of diesel equipment below 302 degrees Fahrenheit. Diesel road graders are considered heavy-duty equipment.

(vi) Diesel-powered rock dust machines and diesel-powered generators, both light duty machines, which are not approved and maintained as permissible under Part 36, may be used in the two-entry system, except where permissible equipment is required, even if they do not meet the requirements provided that:

(A) No miners are located in the work area.

(B) No miners are located in the adjacent parallel entry at any location when either the rock dust machine or generator is operating or located in the two-entry section.

(3) Diesel fuel shall not be stored in the two-entry system. Diesel-powered equipment not approved and maintained under Part 36 shall not be refueled in the two-entry system.

(4) Diesel equipment shall not be used for face haulage equipment on the working section, except that diesels may be used on the working section for cleanup, setup, and recovery, or similar non-coal haulage purposes.

(5) If non-Part 36 diesel-powered equipment needs to be “jump started” due to a dead battery in any two-entry system, a methane check by a qualified person using an MSHA approved detector shall be made prior to attaching the “jumper” cables. The equipment shall not be “jump” started if air contains 1.0 volume per centum or more of methane.

(6) A diesel equipment maintenance program shall be adopted and complied with by the operator. The program shall include the examinations and tests specified in the manufacturers' maintenance recommendations as it pertains to diesel carbon monoxide emissions. A record of these examinations and tests shall be maintained on the surface and be made available to all interested persons.

Skyline Mine #3 has no designated miner's representative.

The petitioner asserts that the alternative method proposed in the petition will at all times guarantee no less than the same measure of protection afforded by 30 CFR 75.350(a).

Song-ae Aromie Noe,
Director, Office of Standards, Regulations, and Variances.

[FR Doc. 2024-16913 Filed 7-31-24; 8:45 am]

BILLING CODE 4520-43-P